DEPARTMENT OF COMMERCE

U.S. Census Bureau

Proposed Information Collection; Comment Request; Service Annual Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before May 21, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to Andrew Baer, U.S. Census Bureau, 8K057, Washington, DC 20233-6500, 301-763-3183, Andrew.L.Baer@Census.gov.

SUPPLEMENTARY INFORMATION:

I. Abstract

The Service Annual Survey (SAS), produces annual nationwide estimates of revenue and expenses for service industries. These service industries include all or portions of the following North American Industry Classification System (NAICS) sectors: Utilities (NAICS 22); Transportation and Warehousing (NAICS 48 and 49); Information (NAICS 51); Finance and Insurance (NAICS 52); Real Estate and Rental and Leasing (NAICS 53); Professional, Scientific and Technical Services (NAICS 54); Administrative and Support and Waste Management and Remediation Services (NAICS 56); Educational Services (NAICS 61); Health Care and Social Assistance (NAICS 62); Arts, Entertainment, and Recreation (NAICS 71); Accommodation and Food Services (NAICS 72); and Other Services (NAICS 81).

For most industries, SAS produces estimates of revenue for selected detailed products. The program also collects and publishes information about sales generated from electronic sources (e-commerce). Inventory estimates are produced for selected industries in the Transportation and Information sectors. For industries with a significant non-profit component, separate estimates are developed for taxable firms and organizations exempt from federal income tax.

The Census Bureau is authorized by Title 13, United States Code, to conduct surveys necessary to furnish current data on subjects covered by the major censuses. These surveys provide continuing and timely national statistical data for the period between economic censuses. The SAS is one of multiple Census Bureau surveys that fulfill this role.

Data from the Service Annual Survey are needed to provide a sound statistical basis for the formation of policy by various governmental agencies, private businesses, and trade associations, among other users. The media and the public also rely on these data to understand the health of the U.S. service sector. The Bureau of Economic Analysis, the primary Federal user of these annual program statistics, uses the information in developing the national income and product accounts, compiling benchmark and annual input-output tables, and computing Gross Domestic Product by industry. The Bureau of Labor Statistics uses the data as inputs to its Producer Price Index and in developing productivity measurements. The Centers for Medicare and Medicaid Services use the data in the development of the National Health Expenditure Accounts. The Federal Communications Commission (FCC) uses the data as a means for assessing FCC policy. The Census Bureau uses the data to provide new insight into changing structural and cost conditions that will impact the planning and design of future Economic Census questionnaires.

Among the many private sector entities that rely on SAS data, trade and professional organizations, like the Coalition of Service Industries, use the data to analyze industry trends and benchmark their own statistical programs, develop forecasts, and evaluate regulatory requirements. Private businesses use the data to measure market share, analyze business potential, and plan investment decisions. Private industry also uses the data as a tool for marketing analysis. The media uses the data for news reports and background information.

Through the SAS, the Census Bureau collects data from all of the largest firms in the services sector and from a sample of small- and medium-sized businesses selected using a stratified sampling procedure. The Census Bureau reselects the samples periodically, generally at 5-year intervals. The largest firms in a given industry are always in the sample, while nearly all of the small- and medium-sized firms from the prior sample are replaced following the reselection process. The Census Bureau uses a secure online reporting instrument (Centurion) for all SAS data collection. This electronic system of reporting allows respondents easier access, and more convenience and flexibility than paper survey forms. In rare cases where the company has no access to the internet, the Census Bureau can arrange for the company to provide data to an analyst via telephone.

In an effort to continue to provide quality data, reduce respondent burden, and increase clarity of the surveys, forms have been examined and will be revised where needed. Current research is being conducted to evaluate the possibility of removing expense questions from some or all forms. In addition, a new question about the incidence of telemedicine will be tested as a possible addition to the form for ambulatory health care service providers.

II. Method of Collection

The Census Bureau collects this information via the internet, but in rare cases when respondents have no access to the internet, the Census Bureau will collect the information by telephone.

III. Data

OMB Control Number: 0607-0422.

Form Number(s): The Service Annual Survey program consists of more than 170 unique forms for respondents in different industries, which are too extensive to list here. All SAS forms can be viewed at https://www.census.gov/programs-surveys/sas/technical-documentation/questionnaire-app.html.

Type of Review: Regular submission.

Affected Public: Businesses or other for-profit organizations, not-for-profit institutions and Government hospitals located in the United States.

Estimated Number of Respondents: 90,590.

Estimated Time per Response: 3 to 6 hours depending on form.

Estimated Total Annual Burden Hours: 337,958.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C., Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-05871 Filed 3-21-18; 8:45 am]

BILLING CODE 3510-07-P